DEPARTMENT OF EDUCATION

[Docket ID ED—2023—OPE—0205]

Request for Information Regarding Mental Health and Substance Use Disorder Needs in Higher Education

AGENCY: Office of Postsecondary Education, U.S. Department of Education.

ACTION: Request for information.

SUMMARY: The U.S. Department of Education (Department) is requesting information in the form of written comments that may include information, research, and suggestions regarding supporting student mental health and/or substance use disorder (behavioral health) needs in higher education. The Office of Postsecondary Education solicits these comments: to identify examples of what has been effective in addressing college student mental health and substance use disorder needs; to learn how institutions of higher education (IHEs) have transformed their campus cultures and created campus-wide, inclusive strategies to provide support; to identify how State higher education agencies have supported college behavioral health; to better understand potential challenges institutions are facing in the design and implementation of solutions; and, ultimately, to inform future work from the Department.

DATES: We must receive your comments on or before February 25, 2024.

ADDRESSES: Submit your comments through the Federal eRulemaking Portal. We will not accept comments submitted by hand delivery, fax, or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under “FAQ.”

• Postal Mail or Commercial Delivery: If you do not have internet access or electronic submission is not possible, you may mail written comments to the Office of the Under Secretary, U.S. Department of Education, 400 Maryland Avenue SW, Room 7E307, Washington, DC 20202. Mailed comments must be postmarked by February 25, 2024, to be accepted.

Privacy Note: The Department's policy is to make all comments received from members of the public available for public viewing in their entirety on the Federal eRulemaking Portal at www.regulations.gov. Therefore, commenters should be careful to include in their comments only information that they wish to make publicly available.

This is a request for information only. This RFI is not a request for proposals (RFP) or a promise to issue an RFP or a notice inviting applications. This RFI does not commit the Department to contract for any supply or service whatsoever. Further, we are not seeking proposals and will not accept unsolicited proposals. The Department will not pay for any information or administrative costs that you may incur in responding to this RFI. The documents and information submitted in response to this RFI become the property of the U.S. Government and will not be returned.

FOR FURTHER INFORMATION CONTACT: Jessica Bowen Gall, U.S. Department of Education, 400 Maryland Avenue SW, Room 4C212, Washington, DC 20202. Telephone: (202) 453-5573. Email: jessica.gall@ed.gov.

If you are deaf, hard of hearing, or have a speech disability and wish to access telecommunications relay services, please dial 7-1-1.

SUPPLEMENTARY INFORMATION:

I. Background

The need for mental health support has been on the rise across the country over the past two decades. In addition to rising rates of depression and anxiety, suicide is the second leading cause of death among 10-14- and 20-34-year-olds.¹

¹ https://www.cdc.gov/injury/wisqars/index.html.

For example, even before the COVID-19 pandemic, IHEs across the country were seeing an increase in depression and anxiety among young people and, unfortunately, an increase in suicide ideation, suicide attempts, and suicides.² The COVID-19 pandemic only exacerbated these trends with a disproportionate impact on minoritized groups. In the Healthy Minds Data Report for 2021 Winter/Spring, among currently enrolled college students over the age of 18, 41 percent of students reported experiencing any depression, and 34 percent of students reported experiencing any anxiety.³ In the 2021-22 updated Healthy Minds Data Report, those numbers increased: 44 percent of students reported experiencing any depression, and 37 percent of students reported experiencing any anxiety.⁴ These data show that rates of anxiety and depression continued to increase during the pandemic. Moreover, research indicates that unmet mental health needs for students during college are associated with adverse student outcomes, including a low GPA and an increased likelihood of dropping out.⁵

² https://www.sciencedirect.com/science/article/abs/pii/S1054139X1930254X?via%3Dihub.

³ https://healthymindsnetwork.org/wp-content/uploads/2021/09/HMS_national_winter_2021.pdf.

⁴ https://healthymindsnetwork.org/wp-content/uploads/2023/03/HMS_national_print-6-1.pdf.

⁵ https://public.websites.umich.edu/~daneis/papers/MHacademics.pdf.

Some college students may also experience issues with substance misuse or suffer from substance use disorders. The updated Healthy Minds Data Report also revealed that 28 percent of surveyed students reported engaging in binge drinking more than once in the past two weeks and 20 percent reported using marijuana in the last 30 days.⁶ Additionally, according to data from the Substance Abuse and Mental Health Services Administration's (SAMHSA's) 2022 National Survey on Drug Use and Health, the prevalence of substance use disorders involving either drugs or alcohol in 18- to 25-year olds is approximately 28 percent.⁷

⁶ https://healthymindsnetwork.org/wp-content/uploads/2021/09/HMS_national_winter_2021.pdf.

⁷ https://www.samhsa.gov/data/sites/default/files/reports/rpt42728/NSDUHDetailedTabs2022/NSDUHDetailedTabs2022/NSDUHDetTabsSect5pe2022.htm.

College presidents have taken note of the need for increased mental health support. In American Council on Education (ACE) Pulse Point surveys throughout 2021, over 70 percent of college presidents indicated that student mental health was one of their top three concerns, an increase of more than 30 percentage points from April 2020.⁸ Even after the end of the COVID-19 pandemic, mental health needs persist alongside many of the same barriers students and institutions faced prior to the pandemic.

⁸ https://www.acenet.edu/Research-Insights/Pages/Pulse-Point-Surveys.aspx.

The Department and the Biden-Harris Administration have long been focused on promoting behavioral health supports at both the K-12 and postsecondary levels as an integral strategy to supporting student overall well-being and success.⁹ The Department's focus on this issue includes providing guidance and resources to institutions to help support them in addressing student mental health and substance use disorder needs.

⁹ https://www2.ed.gov/documents/coronavirus/reopening-3.pdf.

The Department is also committed to taking additional steps to support institutions in addressing students' mental health and substance use disorder needs. One component of that work is to learn from those who have long engaged in addressing these needs and improving access, services, and outcomes to determine what is working, identify any gaps or unmet needs, and highlight opportunities for the Department and other agencies to be a beneficial partner. We want to work alongside IHEs, State higher education agencies, other Federal agencies, and experts to ensure students and institutions have the necessary knowledge and resources to select and implement easily accessible and effective interventions. We also want to ensure that institutions are connected to evidence-based solutions and peer institutions and can help build the base of what works both for entire campuses and for specific settings and high-need populations.

II. Solicitation of Comments: Helping Institutions Address Student Mental Health and Substance Use Disorder Needs

To help inform the agency's role in supporting institutions in addressing mental health and substance use disorder needs, the Department is seeking input from the public. The deadline for these submissions is February 25, 2024. The Department encourages comments from IHEs, students, researchers, policy experts, academics, behavioral health professionals, other individuals familiar with identifying and addressing mental health and substance use disorder needs in higher education settings, organizations that work directly with institutions to counsel them in providing easily accessible, effective and inclusive behavioral health support and selecting interventions, State higher education executive officers, State higher education agencies and systems, and other members of the public.

The Department seeks responses and supporting evidence to the specific questions below, as well as comments and supporting evidence on the identified general concepts and topics related to addressing mental health and substance use disorder needs in postsecondary education settings. When responding to this RFI, please address one or more of the following questions:

Successful Interventions

1. What metrics have you used to define success in supporting behavioral health (mental health and/or substance use disorders) for all students?

2. Does your institution (or the institution you support or attend) have a school-wide mental health and well-being strategy (a universal prevention strategy)? If so, please describe this strategy. To what extent were/are students engaged as partners in the design and implementation of these strategies?

3. How do you conduct universal assessments of your student body (or support institutions in their assessments) to determine their behavioral health needs?

4. In what ways is your assessment inclusive of diverse student populations, including culturally and linguistically inclusive and identity-safe practices?

5. What strategies or interventions do you believe have most improved behavioral health outcomes among students on your campus or the campuses you support, including systems-level interventions, population level interventions, interventions for high-risk students, or clinical interventions for students with mental health disorders? Please provide any accompanying evidence that informs your belief (e.g., summaries of local outcomes data, locally conducted evaluation studies). Please also share the campus or external resources (e.g., outside funding, digital mental health applications) that were necessary for implementation, including whether cost-sharing by the student was necessary (for example, from co-payments made by the student or billing the student's insurance).

6. What steps have you taken to help ensure that all students are aware of, and can easily access (including in ways that protect their privacy), mental health and substance use disorder supports? What steps have you taken to educate and train relevant staff (e.g., faculty, coaches, housing/resident directors) about student behavioral health supports? How have you tailored outreach activities to meet the specific needs of particular student populations?

7. What steps have you taken to encourage students to seek mental health and substance use disorder supports, including any specific activities to address stigma? For students, what barriers or fears do you or your peers have with engaging with behavioral health treatment at your institution and to what extent, if any, has your institution sought to address these fears and barriers?

8. What steps have you or the institutions you support taken to tailor behavioral health interventions to the specific needs of particular student populations, including students from underserved communities and primarily off-campus populations, if applicable? What evidence (e.g., summaries of local outcomes data, locally conducted evaluation studies) suggests these interventions are effective? If not already provided above, please consider including any evidence here.

9. What actions or partnerships have you formed (or helped institutions form) (e.g., with parents/guardians, law enforcement to prevent unintentional harm to students in distress) to ensure continuity of care for students with mental health disorders as they transition to, between, and from college? What steps have you taken to involve parents/guardians in the event of an emergent behavioral health concern? Have you encountered challenges (for example, privacy concerns or other challenges/barriers) or developed successful strategies to engage parents/guardians to ensure continuity of care and services for students entering with behavioral health disorders, or those with previously undetected, undertreated, or untreated behavioral health concerns?

10. How is your institution ensuring that college students have access to health insurance and access to comprehensive behavioral health care?

11. What steps have you taken to ensure that students with mental health disabilities receive academic accommodations and other reasonable modifications under the Americans with Disabilities Act of 1990 and section 504 of the Rehabilitation Act of 1973 to give them each a meaningful opportunity to participate in and benefit from the school's academic and non-academic programs? How have you integrated your disability services offices into initiatives to develop strategies to meet the mental health needs of students on your campus? What steps have you taken to address any bias—by professors, staff, or other students—against students with mental health disabilities?

12. What kinds of trauma-focused services or supports are you providing to students who may have experienced trauma?

13. What efforts have you taken to develop, enhance, or implement suicide prevention and postvention plans? Which of these efforts do you believe have been most strongly associated with reductions in suicide attempts and completions on your campus (or the campuses you support)? Please provide any accompanying evidence that informs your belief (e.g., summaries of local outcomes data, locally conducted evaluation studies). What is the process of connecting students to on and off-campus suicide prevention/postvention supports?

14. If applicable, please describe if your IHE or an IHE you support has received a Garrett Lee Smith Campus Suicide Prevention Grant from SAMHSA, please describe how these funds have been used to support suicide prevention efforts.

15. How have you provided supports for the mental health of your faculty, staff, graduate students, and post-doctoral students? Please describe any prevention strategies, assessment approaches, and interventions and how these supports addressed unique workforce challenges that emerged as a result of the COVID-19 pandemic? What evidence (e.g., summaries of local outcomes data, locally conducted evaluation studies) suggests these practices are effective?

16. What has your institution (or the institutions you support) done to ensure students have access to qualified and well-resourced mental health and substance use disorder professionals? What has been effective in addressing any challenges with hiring, developing, and retaining these professionals, including increasing the diversity of professionals?

17. What steps have you (or institutions you support or attend) taken to decrease wait times for counseling centers and other available on-campus treatment options and services? Please provide any accompanying evidence including baseline data.

18. What kinds of peer support related to behavioral health, if any, have you implemented on your campus?

19. What role has your State played in helping to address mental health and substance use disorder needs on your campus, including through introducing and/or passing legislation, increasing funding, and engaging in State-wide initiatives?

Choosing and Implementing Interventions

20. What resources (e.g., financial, staffing, technical) have you found to be most helpful in choosing and implementing evidence-based strategies to address mental health and substance use disorder needs on your campus (or the campuses you support)? For example, have you utilized SAMHSA's Evidence-based Guidebook “Prevention and Treatment of Anxiety, Depression, and Suicidal Thoughts and Behaviors Among College Students”? ¹⁰

¹⁰ https://www.samhsa.gov/resource/ebp/prevention-treatment-anxiety-college-students.

21. What support would be helpful in choosing and implementing strategies to address behavioral health needs on your campus?

22. Reflecting on the challenges presented by the COVID-19 pandemic, how has your institution adapted or refined its pandemic preparedness strategies to specifically address the mental health and well-being of students?

Role of the Department

23. How can the Department best support ongoing efforts inclusive and exclusive of additional funding? What are the preferred methods for collaboration and sustainable partnerships between the Department and behavioral health experts?

24. What unmet needs remain and what barriers have institutions encountered in providing mental health and substance use disorder supports for their students? How can the Department assist in helping to meet these needs and overcome barriers?

25. Are there any resources you would like the Department to provide?

26. If the Department were to hold a convening or other event, what specific topics or information would be most helpful to include in supporting institutions and the work of the field?

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site, you can view this document, as well as all other documents of this Department published in the Federal Register, in text or Adobe Portable Document Format (PDF). To use PDF, you must have Adobe Acrobat Reader, which is available free at the site.

You may also access documents of the Department published in the Federal Register by using the article search feature at www.federalregister.gov. Specifically, through the advanced search feature at this site, you can limit your search to documents published by the Department.

Nasser H. Paydar,
Assistant Secretary for Postsecondary Education.

[FR Doc. 2024-01605 Filed 1-25-24; 8:45 am]

BILLING CODE 4000-01-P